DEPARTMENT OF AGRICULTURE

Office of the Secretary

Privacy Act of 1974; Report of a New System of Records

AGENCY: Office of the Secretary, USDA.

ACTION: Notice of new privacy act system of records.

SUMMARY: Notice is hereby given that the United States Department of Agriculture (USDA) proposes to create a new Privacy Act system of records, FCIC-11, entitled “Loss Adjuster.” The system will be maintained by the Federal Crop Insurance Corporation (FCIC), a wholly-owned Government Corporation administered by the Risk Management Agency (RMA), an agency of USDA. The primary purpose of the loss adjuster system is to aid in the administration and management of the Federal crop insurance program.

EFFECTIVE DATE: This notice will be adopted without further publication on April 30, 2003 unless modified by a subsequent notice to incorporate comments received from the public. Although the Privacy Act requires only that the portion of the system which describes the “routine uses” of the system be published for comment, USDA invites comment on all portions of this notice. Comments must be received by the contact person listed below on or before April 30, 2003.

FOR FURTHER INFORMATION CONTACT: Director, Actuarial Division, Risk Management Agency, 6501 Beacon Drive, Kansas City, Mo 64133, Telephone: (816) 926-6487.

SUPPLEMENTARY INFORMATION: Pursuant to the Privacy Act, 5 U.S.C. 552a, USDA is creating a new system of records, FCIC-11, entitled “Loss Adjuster” to be maintained by the Federal Crop Insurance Corporation (FCIC), a wholly-owned Government Corporation administered by the Risk Management Agency (RMA), an agency of USDA.

RMA promotes and regulates sound risk management solutions to improve the economic stability of American agriculture. The Agency is responsible for supervision of the Federal Crop Insurance Corporation (FCIC) and the administration and oversight of programs authorized under the Federal Crop Insurance Act. As an example, the Federal Crop Insurance program covers production losses due to unavoidable causes such as drought, excessive moisture, hail, and wind. Risk Management tools are available to producers through commercial insurance companies that have entered into a financial arrangement with FCIC. Under this agreement, the company agrees to deliver a product to eligible buyers.

The purpose of the loss adjuster system is to identify persons performing loss adjustment services (i.e., performing field inspections, verifying cause of loss, determining total production); detect disparate or inconsistent performance among all loss adjustors; capture data that contains the social security account number of loss adjusters for actuarial purposes in determining risk classification; and analyze and evaluate general program performance at various phases of program delivery. Routine uses include identifying loss adjusters who are ineligible for participation due to disqualification, suspension, debarment or other ineligibility and for other general administrative needs. The system contains records of identification for a loss adjustor to include the name, social security number, loss adjuster code, State, county and private insurance company that insures the policy for which the loss adjustment activities are performed, the individual policy number, state and county, private insurance company, amount of premium collected, and amount of indemnity paid for all applicable losses adjusted by the loss adjuster, and any information relating to any disqualification, suspension, debarment or other ineligibility.

The loss adjuster system is maintained by the Actuarial Division, Research and Development, RMA, Kansas City, Missouri.

A “Report on New System,” required by 5 U.S.C. 552a(r), as implemented by OMB Circular A-130, was sent to the Chairman, Committee on Governmental Affairs, United States Senate, the Chairman, Committee on Government Reform, U.S. House of Representatives, and the Administrator, Office of Information and Regulatory Affairs, Office of Management and Budget on March 21, 2003.

Signed at Washington, DC, on March 21, 2003.
Ann M. Veneman,
Secretary of Agriculture.

USDA/FCIC-11

System Name:

Loss Adjuster,

Security Classification:

None.

System Location:

Kansas City Office, Federal Crop Insurance Corporation, Risk Management Agency, 6501 Beacon Drive, Stop 0814, Kansas City, Missouri 64133-4676 and regional offices for the Federal Crop Insurance Corporation. Addresses of the regional offices may be obtained from the Deputy Administrator, Insurance Services, Risk Management Agency, United States Department of Agriculture, 1400 Independence Avenue, SW, Stop 0805, room 6709-S, Washington, DC 20250-0803.

Categories of Individuals Covered by the System:

The system consists of information on any individual who is under contract with or employed by a private insurance company reinsured by FCIC and who is authorized to perform loss adjustment and related activities under the laws of the State and the Standard Reinsurance Agreement.

Categories of Records in the System:

The system consists of standardized records containing identifying information on individuals such as name, social security number, loss adjuster code, the State, county and private insurance company that insures the policy for which the loss adjustment activities are performed, and the individual policy number, State and county, private insurance company, amount of premium collected, and amount of indemnity paid for all applicable losses adjusted by the loss adjuster and any information relating to disqualification, suspension, debarment, and any other ineligibility.

Authority for Maintenance of the System:

7 U.S.C. 1501 et seq.

Routine Uses of Records Maintained in the System, Including Categories of Uses and the Purposes of Such Uses:

Records contained in this system may be used as follows:

(1) Referral to the appropriate agency, whether Federal, State, local or foreign, charged with the responsibility of investigating or prosecuting a violation of law, or of enforcing or implementing a statute, rule, regulation, or order issued pursuant thereto, of any record within this system when information available indicates a violation or potential violation of law, whether civil, criminal, or regulatory in nature, and whether arising by general statute or particular program statute or by rule, regulation or order issued pursuant thereto.

(2) Disclosure to a court, magistrate, or administrative tribunal, or to opposing counsel in a proceeding before a court, magistrate, or administrative tribunal, of any record within the system that constitutes evidence in that proceeding, or which is sought in the course of discovery, to the extent that FCIC determines that the records sought are relevant to the proceeding.

(3) Disclosure to a congressional office from the record of an individual in response to any inquiry from the congressional office made at the request of that individual.

(4) Disclosure to private insurance companies to monitor loss adjuster activity, performance, and loss histories and take such corrective action as necessary.

(5) Disclosure to contractors or other Federal agencies to conduct research and analysis to identify patterns, trends, anomalies, instances and relationships of private insurance companies, agents, loss adjusters and policyholders that may be indicative of fraud, waste, and abuse.

(6) Disclosure to private insurance companies, contractors, and other applicable Federal agencies to determine whether information has been accurately provided to FCIC and the private insurance companies and to determine compliance with program requirements.

(7) Disclosure to private insurance companies, contractors, cooperators, partners of FCIC, and other Federal agencies for any purpose relating to the sale, service, administration, analysis, or evaluation of the Federal crop insurance program.

Policies and Practices for Storing, Retrieving, Accessing, Retaining, and Disposing of Records in the System:

Storage:

Records are maintained electronically, on computer printouts and in the file folders at the Kansas City Office.

Retrievability:

Records may be indexed and retrieved by name, social security number, and loss adjuster code.

Safeguards:

Records are accessible only to authorized personnel, on computer printouts and in the file folders at the Kansas City Office. The electronic records are controlled by password protection and the computer network is protected by means of a firewall.

Retention and Disposal:

Electronic records are maintained indefinitely. Hard copy records are maintained until expiration of the record retention period established by the National Archivist.

System Manager(s) and Address:

Director, Actuarial Division, Risk Management Agency, Federal Crop Insurance Corporation, 6501 Beacon Drive, Stop 0814, Kansas City, Missouri 64133-4676. Telephone: (816) 926-6487.

Notification Procedure:

An individual may request information regarding this system of records or information as to whether the system contains records pertaining to such individual from the Kansas City Office. The request for information should contain the individual's name, address and social security number. Before information about any record is released, the System Manager may require the individual to provide proof of identity or require the requester to furnish an authorization from the individual to permit release of information.

Record Access Procedures:

An individual may obtain information as to the procedures for gaining access to a record in the system, which pertains to such individual, by submitting a written request to the Privacy Act Officer, The Program Support Staff, Room 6620-SB, AG Stop 0821, 1400 Independence Avenue, SW., Washington, DC 20250-0821. The envelope and letters should be marked “Privacy Act Request.” A request for information should contain: Name, address, ZIP code, tax identification number social security number, name of the system of records, year of records in question, and any other pertinent information to help identify the file.

Contesting Record Procedures:

Procedures for contesting records are the same as the procedures for record access. Include the reason for contesting the record and the proposed amendment to the information with supporting documentation to show how the record is inaccurate.

Record Source Categories:

Information in this system comes primarily from the insurance company due to financial arrangement with FCIC (i.e. Standard Reinsurance Agreement), or from other Federal agencies.

Exemptions Claimed for the System:

None.

[FR Doc. 03-7630 Filed 3-28-03; 8:45 am]

BILLING CODE 3410-08-P